DEPARTMENT OF AGRICULTURE

Forest Service

Boundary Descriptions for the Columbia River Gorge National Scenic Area, Hood River, Multnomah and Wasco Counties, Oregon; Clark, Klickitat and Skamania Counties, Washington State

AGENCY: Forest Service, USDA.

ACTION: Notice of availability.

SUMMARY: In accordance with the Columbia River Gorge National Scenic Area Act of Nov. 17, 1986, the Forest Service has prepared boundary descriptions for the Columbia River Gorge National Scenic Area exterior boundary, Special Management Area boundaries, and Urban Area boundaries.

FOR FURTHER INFORMATION CONTACT: Information may be obtained by contacting the Headquarters Office of the Columba River Gorge National Scenic Area, 902 Wasco Avenue, Suite 200, Hood River, OR 97031-3117; may call (541) 308-1700 or directly, Miki Fujikawa, Lands Staff Officer, at miki.fujikawa@usda.gov. Additional information concerning this notice may be obtained from the Columbia River Gorge Commission at http://www.gorgecommission.org. Individuals who use telecommunication devices for the deaf (TDD) may call the Federal Information Relay Service (FIRS) at 1-800-877-8339 between 8:00 a.m. and 8:00 p.m., Eastern Standard Time, Monday through Friday.

SUPPLEMENTARY INFORMATION: The Forest Service and Columbia River Gorge Commission partnered to produce legal descriptions for three Congressionally Designated areas of the Columbia River Gorge National Scenic Area: The National Scenic Area exterior boundary, Special Management Area boundaries, and Urban Area boundaries. The boundary descriptions clarify previously existing boundary maps. Documents may be viewed at the following offices: USDA Forest Service, Yates Building, 14th and Independence Avenue SW, Washington, DC 20024; at the USDA Forest Service Region 6 Regional Office,1220 SW 3rd Ave., Portland, OR 97204; and at the Headquarters Office of the Columba River Gorge National Scenic Area, 902 Wasco Avenue, Suite 200, Hood River, OR 97031. Additionally, should the above offices be closed due to Covid-19 precautions, the documents can be viewed at the following website: http://www.gorgecommission.org/images/uploads/amendments/Commission_Rule_350-10_(Final,_amended_as_of_Dec._31,_2018).pdf.

Jennifer Eberlien,
Associate Deputy Chief, National Forest System.

[FR Doc. 2020-27114 Filed 12-9-20; 8:45 am]

BILLING CODE 3411-15-P